DEPARTMENT OF THE INTERIOR

Bureau of Land Management

[NMNM 106570]

Intent To Prepare an Environmental Impact Statement (EIS) for a Proposed Pipeline Right-of-Way Across Federal Land in Lea, Eddy, Chaves, Lincoln, Guadalupe, Torrance, Sandoval, McKinley and San Juan Counties, NM; Ector and Winkler Counties, TX

AGENCY: Bureau of Land Management, New Mexico.

ACTION: Notice of Intent to Prepare an Environmental Impact Statement (EIS) and conduct EIS scoping meetings for the conversion of an existing pipeline and construction of new pipeline and above ground structures for the transportation of refined petroleum products from Odessa, Texas to Bloomfield, New Mexico.

SUMMARY: Equilon Pipeline Company, LLC, proposes a pipeline about 500 miles in length, from Odessa, Texas to Bloomfield, New Mexico, carrying refined petroleum products (gasoline, diesel, aviation fuel). Approximately 400 miles of the 500-mile system uses an existing pipeline formerly used to move crude oil from the Four Corners area to West Texas. Approximately 100 miles of new pipeline will be constructed in two segments; one linking Odessa, Texas to the existing pipeline at Jal, New Mexico, and the other connecting the north end of the existing pipeline near Bisti to Bloomfield, New Mexico. The existing pipeline will be reconditioned.

Pursuant to Section 102(2)(C) of the National Environmental Policy Act (NEPA) of 1969, the Bureau of Land Management, New Mexico State Office, will be the lead agency directing the preparation of an EIS on the impacts of proposed transportation of refined petroleum products through pipelines located on public lands in New Mexico and Texas, including BLM, National Forest System and State as well as private lands.

Preliminary Issues

Potential issues identified at this time include: biological and visual resources; soils, water, safety, social and economic concerns in association with refined petroleum products pipeline construction and operation. Other issues and concerns may be identified through scoping and the public participation development of this public notification process.

Responsible Official

The responsible official is Michelle Chavez, the BLM New Mexico State Director, 1474 Rodeo Road, Santa Fe, New Mexico, 87505.

Decisions To Be Made

The purpose of the EIS is to disclose to the public and permitting agencies the environmental impacts of constructing and operating the proposed pipeline. If approved, the BLM, as lead agency, would sign the necessary Record of Decision (ROD) for the issuance of right-of-way grants under the Mineral Leasing Act for the pipeline proposal.

Tentative Project Schedule

The tentative project schedule is as follows:

Begin Public Comment Period

January 2002

Scoping Meetings

January 2002

Scoping Comment Period Ends

February 2002

Publish Draft EIS

June 2002

Draft EIS Public Meetings

July 2002

Publish Final EIS

October 2002

Record of Decision

November 2002

Public Scoping Meetings

Public Scoping meetings are tentatively scheduled for the week of January 14, 2002 in Moriarty, Jal and Placitas, New Mexico. Open houses will also be held in Odessa, Texas and Bloomfield, NM.

Public Input Requested

Comments concerning the Proposed Action and EIS should address environmental issues to be considered, feasible alternatives to examine, possible mitigation and information relevant to or bearing on the Proposed Action.

Comments, including names and street addresses of respondents, will be available for public review at the BLM Albuquerque Field Office and will be subject to disclosure under the Freedom of Information Act (FOIA). They may be published as part of the EIS and other related documents. Individual respondents may request confidentiality. If you wish to withhold your name or street address from public review and disclosure under the FOIA, you must state this prominently at the beginning of your written comment. Such requests will be honored to the extent allowed by law. All submissions from organizations or businesses will be made available for public inspection in their entirety.

ADDRESSES: Comments should be sent to Joseph Jaramillo, Project Manager, Bureau of Land Management, Albuquerque Field Office, 435 Montano Road, NE, Albuquerque, NM 87107-4935.

Dated: December 6, 2001.
Edwin J. Singleton,
BLM, Albuquerque Field Manager.

[FR Doc. 01-31758 Filed 12-26-01; 8:45 am]

BILLING CODE 4310-AG-P